DEPARTMENT OF THE INTERIOR

National Park Service

[NPS-WASO-NAGPRA-NPS0036066; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice. The human remains were removed from Monmouth County, NJ.

DATES: Repatriation of the human remains in this notice may occur on or after July 24, 2023.

ADDRESSES: Patricia Capone, Peabody Museum of Archaeology and Ethnology, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, one individual were removed from near a shell heap in Keyport, Monmouth County, NJ, by Reverend Samuel Lockwood between 1858 and 1887. The Peabody Museum purchased the human remains from Lockwood in 1888. No associated funerary objects are present.

Human remains representing, at minimum, three individuals were removed from near the reform church in Keyport, Monmouth County, NJ, by Reverend Samuel Lockwood in 1880 and between 1858 and 1887. The Peabody Museum purchased the human remains from Lockwood in 1888. No associated funerary objects are present.

The interments all likely date to the Late Woodland Period (A.D. 900-1600) and are likely associated with the Keyport Shell Heap (New Jersey state site numbers 28MO009 and 28MO010). The Keyport Shell Heap has been dated to the Late Woodland and possibly the Contact Period (A.D. post 1600), based on artifacts found in the shell heap.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, the PMAE has determined that:

• The human remains described in this notice represent the physical remains of four individuals of Native American ancestry.

• There is a relationship of shared group identity that can be reasonably traced between the human remains described in this notice and the Delaware Nation, Oklahoma; Delaware Tribe of Indians; and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains described in this notice to a requestor may occur on or after July 24, 2023. If competing requests for repatriation are received, the PMAE must determine the most appropriate requestor prior to repatriation. Requests for joint repatriation of the human remains are considered a single request and not competing requests. The PMAE is responsible for sending a copy of this notice to the Indian Tribes identified in this notice.

Authority: Native American Graves Protection and Repatriation Act, 25 U.S.C. 3003, and the implementing regulations, 43 CFR 10.9 and 10.11.

Dated: June 14, 2023.
Melanie O'Brien,
Manager, National NAGPRA Program.

[FR Doc. 2023-13304 Filed 6-21-23; 8:45 am]

BILLING CODE 4312-52-P